DEPARTMENT OF TRANSPORTATION

Surface Transportation Board

[STB Finance Docket No. 35044]

Buffalo & Pittsburgh Railroad Inc.—Lease and Operation Exemption—Norfolk Southern Railway Company

AGENCY: Surface Transportation Board, DOT.

ACTION: Notice of exemption.

SUMMARY: Under 49 U.S.C. 10502, the Board is granting a petition for exemption from the prior approval requirements of 49 U.S.C. 10902 for Buffalo & Pittsburgh Railroad, Inc., a Class II rail carrier, to lease and operate approximately 35.9 miles of a line of railroad owned by the Norfolk Southern Railway Company. The rail line extends from milepost BR 8.8 near Gravity, NY, to milepost BR 44.7+/−, immediately south of the northbound home signal and insulated joint for CP-Machias near Machias, NY. The exemption is subject to employee protective conditions.

DATES: The exemption will be effective on August 27, 2007. Petitions to stay must be filed by August 21, 2007. Petitions to reopen must be filed by September 4, 2007.

ADDRESSES: An original and 10 copies of all pleadings, referring to STB Finance Docket No. 35044, must be filed with the Surface Transportation Board, 395 E Street, SW., Washington, DC 20423-0001. In addition, one copy of all pleadings must be served on petitioner's representative: Eric M. Hocky, Gollatz, Griffin & Ewing, P.C., Four Penn Center, Suite 200, 1600 John F. Kennedy Blvd., Philadelphia, PA 19103-2808.

FOR FURTHER INFORMATION CONTACT: Joseph H. Dettmar, (202) 245-0395. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20706; e-mail asapdc@verizon.net; telephone: (202) 306-4004. [Assistance for the hearing impaired is available through FIRS at 1-800-877-8339.]

Board decisions and notices are available on our Web site at http://www.stb.dot.gov.

Decided: August 8, 2007.
By the Board, Chairman Nottingham, Vice Chairman Buttrey, and Commissioner Mulvey.
Vernon A. Williams,
Secretary.

[FR Doc. E7-15861 Filed 8-13-07; 8:45 am]

BILLING CODE 4915-01-P